FEDERAL ENERGY REGULATORY COMMMISSION

[IC03-592-000 FERC Form No. 592]

Commission Collection Activities, Proposed Collection; Comment Request; Extension

September 2, 2003.

AGENCY: Federal Energy Regulatory Commission.

ACTION: Notice.

SUMMARY: In compliance with the requirements of Section 3506(c)(2)(a) of the Paperwork Reduction Act of 1995 (Pub. L. 104-13), the Federal Energy Regulatory Commission (Commission) is soliciting public comment on the specific aspects of the information collection described below.

DATES: Comments on the collection of information are due by October 31, 2003.

ADDRESSES: Copies of the proposed collection of information can be obtained from Michael Miller, Office of the Executive Director, ED-30, 888 First Street, NE., Washington, DC 20426. Comments on the proposed collection of information may be filed either in paper format or electronically. Those parties filing electronically do not need to make a paper filing. For paper filings, the original and 14 copies of such comments should be submitted to the Office of the Secretary, Federal Energy Regulatory Commission, 888 First Street, NE., Washington, DC 20426 and should refer to Docket No. IC03-592-000.

Documents filed electronically via the Internet can be prepared in a variety of formats, including WordPerfect, MS Word, Portable Document Format, Rich Text Format or ASCII format. To file the document, access the Commission's Web site at http://www.ferc.gov and click on “Make an E-filing,” and then follow the instructions for each screen. First time users will have to establish a user name and password. The Commission will end an automatic acknowledgment to the sender's e-mail address upon receipt of comments. User assistance for electronic filings is available at 202-502-8258 or by e-mail to efiling@ferc.gov. Comments should not be submitted to this e-mail address.

All comments may be viewed, printed or downloaded remotely via the Internet through FERC's homepage using the eLibrary link. For user assistance, contact FERCOnlineSupport@ferc.gov or toll free at (866) 208-3676 or for TTY, contact (202) 502-8659.

FOR FURTHER INFORMATION CONTACT: Michael Miller may be reached by telephone at (202) 502-8415, by fax at (202) 273-0873 and by e-mail at michael.miller@ferc.gov.

SUPPLEMENTARY INFORMATION:

The information collected under the requirements of FERC Form No. 592, “Marketing Affiliates of Interstate Pipelines” (OMB No. 1902-0157) is used by the Commission to implement the statutory provisions of Sections 4, 5, 7, 8, 10, 14, 16 and 20 of the Natural Gas Act (NPA), 15 U.S.C. 717-717w and Title II, Section 311 and Sections 501 and 504 of the Natural Gas Policy Act (Pub. L. 95-621)

The information under FERC Form 592 applies only to those major natural gas pipelines involved in transactions with affiliated marketing or brokering companies. In Order No. 497, 53 FR 22161, June 14, 1988, the Commission addressed possible abuses in the relationship between interstate natural gas pipelines and their marketing or brokering entity. The rule established standards of conduct and reporting requirements intended to prevent preferential treatment of an affiliated marketer by an interstate pipeline in the provision of transportation services. In Order No. 637, 65 FR 10219, February 25, 2000, the Commission in response to growing competition in the natural gas marketplace and to further ensure that it could monitor transactions for the exercise of marketpower revised its reporting requirements. These provisions have improved the availability and usefulness of the information reported. Under these revisions, periodic reporting to the Commission was reduced and instead a greater reliance was placed on Internet posting and information maintenance. Specifically with regard to interstate pipelines and their affiliates, respondents have to post the list of names of operating personnel and facilities shared by the interstate pipeline and its marketing affiliate plus organizational charts and job descriptions were also to be posted with specified information. Respondents also have to file with the Commission a set of procedures to show compliance with the Commission's standards of conduct; maintain books of accounts and records separate from those of its affiliate; contemporaneously inform all potential shippers of information provided to marketing affiliates about the transportation of natural gas; maintain a log of waivers that the pipeline grants with respect to tariff provisions that provide for discretionary waivers and make the log available within a 24-hour period from when a request is made; and contemporaneously provide to similarly situated non-affiliated shippers the same transportation discount that it made to an affiliated marketer.

The information maintained and provided by respondents is used by the Commission to monitor pipelines' transportation and sales activities for their marketing affiliates to deter undue discrimination by pipeline companies in favor of their marketing affiliates. These reporting requirements act to deter undue discrimination and preference, and permit the market to monitor and self-police affiliate transactions. The information is also used by nonaffiliated shippers or others (such as state commissions) to determine whether they have been harmed by affiliate preference and, in some cases, to prepare evidence for formal proceedings following the filing of a complaint. The Commission implements these filings requirements in the Code of Federal Regulations (CFR) under 18 CFR section 161.3 and section 250.16.

Action: The Commission is requesting a three-year extension without any changes to the Reporting requirements.

Burden Statement: Public reporting burden for this information collection is estimated as:

Number of respondents annually (1) | Number of responses per respondent (2) | Average burden (number of hours per response) (3) | Total annual burden (total number of hours) (1)×(2)×(3)
74 | 2 | 29.8* | 4,409
* Rounded off.

Estimated cost to respondents: 4,409 hours ÷ 2,080 per year x $117,041 = $248,093. The cost per respondent = $3,353. The reporting burden includes the total time, effort, or financial resources expended to generate, maintain, retain, disclose, or provide the information including: (1) Reviewing instructions; (2) developing, acquiring, installing, and utilizing technology and systems for the purpose of collection, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Magalie R. Salas,
Secretary.

[FR Doc. 03-22852 Filed 9-8-03; 8:45 am]

BILLING CODE 6717-01-M